NUCLEAR REGULATORY COMMISSION

10 CFR Part 73

[Docket No. PRM-73-11]

Petition for Rulemaking Filed by Scott Portzline, Three Mile Island Alert; Consideration of Petition

AGENCY: Nuclear Regulatory Commission.

ACTION: Petition for rulemaking; consideration of petition.

SUMMARY: On November 2, 2001 (66 FR 55603), the Nuclear Regulatory Commission (NRC) published for public comment a petition for rulemaking (PRM) filed by Scott Portzline, Three Mile Island Alert. The petitioner requested that the NRC regulations governing physical protection of plants and materials be amended to require NRC licensees to post at least one armed guard at each entrance to the “owner controlled areas” (OCAs) surrounding all U.S. nuclear power plants. The petitioner states that this should be accomplished by adding armed site protection officers (SPOs) to the security forces—not by simply moving SPOs from their protected area (PA) posts to the OCA entrances. The petitioner believes that its proposed amendment would provide an additional layer of security that would complement existing measures against radiological sabotage and would be consistent with the long-standing principle of defense-in-depth.

This document informs the public that PRM-73-11 and public comments received in response to the above notice will be considered in a proposed rulemaking, “Power Reactor Security Requirements,” published in the Federal Register on October 26, 2006 (71 FR 62664). This rulemaking proposes extensive revisions to the NRC regulations in 10 CFR parts 50, 72, and 73 that address security requirements for nuclear power reactor licensees and certain materials licensees. The comment period on that proposed rule expires on February 23, 2007. Because the public has already had opportunity to comment on PRM-73-11, the NRC is requesting that comments focus on the proposed rule provisions in light of the subject PRM. Refer to the preamble of the proposed rule for instructions on how to provide comments.

FOR FURTHER INFORMATION CONTACT: George Tartal, Office of Nuclear Reactor Regulation, U.S. Nuclear Regulatory Commission, Washington, DC 20555-0001, Telephone: 301-415-0016, or toll-free: 800-368-5642, e-mail gmt1@nrc.gov, or Everett Byre, Office of Nuclear Security and Incident Response, U.S. Nuclear Regulatory Commission, Washington, DC 20555-0001, Telephone: 301-415-7825, or toll free: 800-368-5642, e-mail exb4@nrc.gov.

Dated at Rockville, Maryland, this 27th day of December 2006.
For the Nuclear Regulatory Commission.
Annette L. Vietti-Cook,
Secretary of the Commission.

[FR Doc. E6-22582 Filed 1-4-07; 8:45 am]

BILLING CODE 7590-01-P